DEPARTMENT OF LABOR

Employment and Training Administration

[TA-W-40,852]

ASARCO, Inc. Amarillo Copper Refinery Amarillo, TX; Notice of termination of Investigation

Pursuant to Section 221 of the Trade Act of 1974, an investigation was initiated on February 25, 2002 in response to a petition filed by a company official on behalf of workers at ASARCO, Inc., Amarillo Copper Refinery, Amarillo, Texas. Workers at the subject plant produce refined copper and other metals.

An active certification covering the petitioning group of workers remains in effect (TA-W-40,104B). Consequently, further investigation in this case would serve no purpose, and the investigation has been terminated.

Signed in Washington, DC this 18th day of April, 2002.
Linda G. Poole,
Certifying Officer, Division of Trade Adjustment Assistance.

[FR Doc. 02-12400 Filed 5-16-02; 8:45 am]

BILLING CODE 4510-30-M